Title 3—

The President

Proclamation 7317 of June 9, 2000

Establishment of the Canyons of the Ancients National Monument

By the President of the United States of America

A Proclamation

Containing the highest known density of archaeological sites in the Nation, the Canyons of the Ancients National Monument holds evidence of cultures and traditions spanning thousands of years. This area, with its intertwined natural and cultural resources, is a rugged landscape, a quality that greatly contributes to the protection of its scientific and historic objects. The monument offers an unparalleled opportunity to observe, study, and experience how cultures lived and adapted over time in the American Southwest.

The complex landscape and remarkable cultural resources of the Canyons of the Ancients National Monument have been a focal point for archaeological interest for over 125 years. Archaeological and historic objects such as cliff dwellings, villages, great kivas, shrines, sacred springs, agricultural fields, check dams, reservoirs, rock art sites, and sweat lodges are spread across the landscape. More than five thousand of these archaeologically important sites have been recorded, and thousands more await documentation and study. The Mockingbird Mesa area has over forty sites per square mile, and several canyons in that area hold more than three hundred sites per square mile.

People have lived and labored to survive among these canyons and mesas for thousands of years, from the earliest known hunters crossing the area 10,000 years ago or more, through Ancestral Puebloan farmers, to the Ute, Navajo, and European settlers whose descendants still call this area home. There is scattered evidence that Paleo-Indians used the region on a sporadic basis for hunting and gathering until around 7500 B.C. During the Archaic period, generally covering the next six thousand years, occupation of the Four Corners area was dominated by hunters and gatherers.

By about 1500 B.C., the more sedentary Basketmakers spread over the landscape. As Ancestral Northern Puebloan people occupied the area around 750 A.D., farming began to blossom, and continued through about 1300 A.D., as the area became part of a much larger prehistoric cultural region that included Mesa Verde to the southeast. Year-round villages were established, originally consisting of pit house dwellings, and later evolving to well-recognized cliff-dwellings. Many archaeologists now believe that throughout this time span, the Ancestral Northern Puebloan people periodically aggregated into larger communities and dispersed into smaller community units. Specifically, during Pueblo I (about 700-900 A.D.) the occupation and site density in the monument area increased. Dwellings tended to be small, with three or four rooms. Then, during Pueblo II (about 900-1150 A.D.), settlements were diminished and highly dispersed. Late in Pueblo II and in early Pueblo III, around 1150 A.D., the size and number of settlements again increased and residential clustering began. Later pueblos were larger multi-storied masonry dwellings with forty to fifty rooms. For the remainder of Pueblo III (1150-1300 A.D.), major aggregation occurred in the monument, typically at large sites at the heads of canyons. One of these sites includes remains of about 420 rooms, 90 kivas, a great kiva, and a plaza, covering more than ten acres in all. These villages were wrapped around the upper reaches of canyons and spread down onto talus slopes, enclosed year-round springs and reservoirs, and included low, defensive walls. The changes in architecture and site planning reflected a shift from independent households to a more communal lifestyle.

Farming during the Puebloan period was affected by population growth and changing climate and precipitation patterns. As the population grew, the Ancestral Puebloans expanded into increasingly marginal areas. Natural resources were compromised and poor soil and growing conditions made survival increasingly difficult. When dry conditions persisted, Pueblo communities moved to the south, southwest, and southeast, where descendants of these Ancestral Puebloan peoples live today.

Soon after the Ancestral Puebloans left the monument area, the nomadic Ute and Navajo took advantage of the natural diversity found in the variable topography by moving to lower areas, including the monument's mesas and canyons, during the cooler seasons. A small number of forked stick hogans, brush shelters, and wickiups are the most obvious remnants of this period of occupation.

The natural resources and spectacular land forms of the monument help explain why past and present cultures have chosen to live in the area. The geology of the monument evokes the very essence of the American Southwest. Structurally part of the Paradox Basin, from a distance the landscape looks deceptively benign. From the McElmo Dome in the southern part of the monument, the land slopes gently to the north, giving no indication of its true character. Once inside the area, however, the geology becomes more rugged and dissected. Rising sharply to the north of McElmo Creek, the McElmo Dome itself is buttressed by sheer sandstone cliffs, with mesa tops rimmed by caprock, and deeply incised canyons.

The monument is home to a wide variety of wildlife species, including unique herpetological resources. Crucial habitat for the Mesa Verde nightsnake, long-nosed leopard lizard, and twin-spotted spiny lizard can be found within the monument in the area north of Yellow Jacket Canyon. Peregrine falcons have been observed in the area, as have golden eagles, American kestrels, red-tailed hawks, and northern harriers. Game birds like Gambel's quail and mourning dove are found throughout the monument both in dry, upland habitats, and in lush riparian habitat along the canyon bottoms.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Canyons of the Ancients National Monument:

NOW, THEREFORE, I, WILLIAM J. CLINTON, President of the United States of America, by the authority vested in me by section 2 of the Act of June 8, 1906 (34 Stat. 225, 16 U.S.C. 431), do proclaim that there are hereby set apart and reserved as the Canyons of the Ancients National Monument, for the purpose of protecting the objects identified above, all lands and interests in lands owned or controlled by the United States within the boundaries of the area described on the map entitled “Canyons of the Ancients National Monument” attached to and forming a part of this proclamation. The Federal land and interests in land reserved consist of approximately 164,000 acres, which is the smallest area compatible with the proper care and management of the objects to be protected.

All Federal lands and interests in lands within the boundaries of this monument are hereby appropriated and withdrawn from all forms of entry, location, selection, sale, or other disposition under the public land laws, including but not limited to withdrawal from location, entry, and patent under the mining laws, and from disposition under all laws relating to mineral leasing, other than by exchange that furthers the protective purposes of the monument, and except for oil and gas leasing as prescribed herein.

For the purpose of protecting the objects identified above, the Secretary of the Interior shall prohibit all motorized and mechanized vehicle use off road, except for emergency or authorized administrative purposes.

Lands and interests in lands within the proposed monument not owned by the United States shall be reserved as a part of the monument upon acquisition of title thereto by the United States.

Because most of the Federal lands have already been leased for oil and gas, which includes carbon dioxide, and development is already occurring, the monument shall remain open to oil and gas leasing and development; provided, the Secretary of the Interior shall manage the development, subject to valid existing rights, so as not to create any new impacts that interfere with the proper care and management of the objects protected by this proclamation; and provided further, the Secretary may issue new leases only for the purpose of promoting conservation of oil and gas resources in any common reservoir now being produced under existing leases, or to protect against drainage.

The Secretary of the Interior shall prepare a transportation plan that addresses the actions, including road closures or travel restrictions, necessary to protect the objects identified in this proclamation.

The Secretary of the Interior shall manage the monument through the Bureau of Land Management, pursuant to applicable legal authorities, to implement the purposes of this proclamation.

The establishment of this monument is subject to valid existing rights.

Nothing in this proclamation shall be deemed to enlarge or diminish the jurisdiction of the State of Colorado with respect to fish and wildlife management.

This proclamation does not reserve water as a matter of Federal law. Nothing in this reservation shall be construed as a relinquishment or reduction of any water use or rights reserved or appropriated by the United States on or before the date of this proclamation. The Bureau of Land Management shall work with appropriate State authorities to ensure that any water resources needed for monument purposes are available.

Nothing in this proclamation shall be deemed to enlarge or diminish the rights of any Indian tribe.

Laws, regulations, and policies followed by the Bureau of Land Management in issuing and administering grazing permits or leases on all lands under its jurisdiction shall continue to apply with regard to the lands in the monument.

Nothing in this proclamation shall be deemed to affect the management of Hovenweep National Monument by the National Park Service (Proclamation 1654 of March 2, 1923, Proclamation 2924 of May 1, 1951, and Proclamation 2998 of November 26, 1952).

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this ninth day of June, in the year of our Lord two thousand, and of the Independence of the United States of America the two hundred and twenty-fourth.

wj

Billing code 3195-01-P

[FR Doc. 00-15109

Filed 6-12-00; 10:47 am]

Billing code 3195-01-C